DEPARTMENT OF DEFENSE

Office of the Secretary

[Docket ID DOD-2011-OS-0047]

Privacy Act of 1974; System of Records

AGENCY: Office of the Secretary, DoD.

ACTION: Notice to alter a system of records.

SUMMARY: The Office of the Secretary of Defense proposes to alter a system of records in its inventory of record systems subject to the Privacy Act of 1974 (5 U.S.C. 552a), as amended.

DATES: This proposed action would be effective without further notice on May 31, 2011 unless comments are received which result in a contrary determination.

ADDRESSES: You may submit comments, identified by docket number and/Regulatory Information Number (RIN) and title, by any of the following methods:

* Federal Rulemaking Portal:http://www.regulations.gov. Follow the instructions for submitting comments.

* Mail: Federal Docket Management System Office, 1160 Defense Pentagon, OSD Mailroom 3C843, Washington, DC 20301-1160.

Instructions: All submissions received must include the agency name and docket number or Regulatory Information Number (RIN) for this Federal Register document. The general policy for comments and other submissions from members of the public is to make these submissions available for public viewing on the Internet at http://www.regulations.gov as they are received without change, including any personal identifiers or contact information.

FOR FURTHER INFORMATION CONTACT: Ms. Cindy Allard at (703) 588-6830, or Chief, OSD/JS Privacy Office, Freedom of Information Directorate, Washington Headquarters Services, 1155 Defense Pentagon, Washington, DC 20301-1155.

SUPPLEMENTARY INFORMATION: The Office of the Secretary of Defense notices for systems of records subject to the Privacy Act of 1974 (5 U.S.C. 552a), as amended, have been published in the Federal Register and are available from the FOR FURTHER INFORMATION CONTACT address above.

The proposed system report, as required by 5 U.S.C. 552a(r) of the Privacy Act of 1974, as amended, was submitted on April 22, 2011, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 25, 2011.
Morgan F. Park,
Alternate OSD Federal Register Liaison Officer, Department of Defense.

DoDEA 26

System name:

Department of Defense Education Activity Educational Records (May 3, 2007, 72 FR 24572).

Changes:

* * * * *

System location:

Delete entry and replace with “Primary location: Department of Defense Education Activity (DoDEA) Headquarters office, 4040 North Fairfax Drive, Arlington, VA 22203-1634.

Secondary locations:

Director, Department of Defense Dependent Schools Pacific, Unit 35007, APO AP 96376-5007.

Director, Department of Defense Dependent Schools Europe, Unit 29649, Box 7000, APO AE 09002-7000.

Domestic Dependent Elementary and Secondary Schools Service Center, 700 Westpark Drive, 3rd Floor, Peachtree City, GA 30269-3554.

Decentralized records are also held at local DoD schools. A list of complete addresses for a specific area (Pacific, Europe or Domestic) may be obtained by writing to the appropriate office above.”

Categories of individuals covered by the system:

Delete entry and replace with “Current and former students enrolled in schools operated or funded by DoDEA, world-wide.”

Categories of records in the system:

Delete entry and replace with “The records described in this notice consist of elementary school and secondary school records that pertain directly to individual students enrolled or formerly enrolled in DoDEA schools; to include the former Panama schools and Panama college; and school-based programs funded by DoDEA. Data elements for all records generally include student name and unique student identifier.

Contemporary School Files:

Attendance and Discipline Files. Information reflecting attendance and disciplinary actions, to include teacher referrals, tardy and/or admission slips, correspondence to and from parents, student and/or witness statements, school disciplinary investigation files, student consequences (punishments), and similar related information.

Health Record Files. Student immunization records, parental permission forms, screening results, sports physicals, physician referrals, medication instructions, consent forms, pertinent family medical history, psychological or mental health and physical assessments and evaluation reports, and/or 504 Accommodation Plans relating to medical or physical disabilities.

School Ancillary Service Files. Non-special education supplemental student services, such as the Gifted Program; English as a Second Language (ESL); Compensatory Education; Reading Improvement; and student counseling and guidance. Records include consultation and referrals, individual student responses to test protocols, assessments and evaluation plans and results, progress and evaluation reports and summaries, teachers' notes, general correspondence, and samples of student's work, and similar related information.

School Mediation Agreement and Hearing Results Files. Material on mediations (limited to records of agreements) and hearings other than those filed in another individual student file such as, a special education file.

School Special Education Files. Student special education programs referrals and referral forms; samples of student's work; Individualized Education Programs and Individualized Family Service Plans; Case Study Committee, test results and protocols; disciplinary records, behavior plans and related information; assessment and evaluation reports; correspondence between teachers, service providers and/or parents; and cross-reference location information; related service-provider reports; teacher notes relevant to the child's special education program or needs; results of special education administration hearings; and similar related information.

School Student Record Files. Information includes student name, Social Security Number (SSN), unique student identifier, enrollment forms and documentation, date of birth, citizenship, photos, passport numbers and expiration dates (for high school students only), student performance, achievements and recognition (academic, citizenship, and athletic), standardized achievement test scores and grades, classroom and course grades, reading records, letters of recommendation, parental correspondence, 504 Accommodation Plans and similar individual student records, and information contained in the student files listed below; records of individual student's sponsor's, including sponsor's SSN, permanent duty address, residence, emergency contact information, parental consents and permissions; and similar related records.

Student Administrative Files. Information pertaining to student involvement in administrative actions such as, serious incident reports, military reports, investigations, compliance reports and similar documents when retrieved by the students name or personal identifier.

Student Record Request and Disclosure Files. Records reflecting individual written requests for access to school files, parent/student consent authorizing disclosure of school files to other individuals or organizations, and records of disclosure of school files when no parent/student consent is required.

Historical School Files:

Transcript Files. Information consists solely of a student's secondary schools or Panama College permanent records (transcripts) reflecting student name and SSN, unique student ID, grades, course titles, credits, and similar data.”

Authority for maintenance of the system:

Delete entry and replace with “10 U.S.C. 113, Secretary of Defense; 10 U.S.C. 2164, Department of Defense Domestic Dependent Elementary and Secondary Schools; 20 U.S.C. 921-932, Overseas Defense Dependent's Education; 29 U.S.C. 794, Nondiscrimination under Federal Grants and Programs; DoD Directive 1342.20, Department of Defense Education Activity (DoDEA); DoD Directive 1020.1, Nondiscrimination on the Basis of Handicap in Programs and Activities Conducted by the Department of Defense; and E.O. 9397 (SSN), as amended.”

Purpose(s):

Delete entry and replace with “To maintain educational records necessary to operate a global educational program for authorized students ages 3-21, inclusive. Records may be used to determine enrollment eligibility and tuition status; schedule children for classes and transportation; record attendance, absence and withdrawal; record and monitor student progress, grades, course and grade credits, services, school activities, student awards, special interests, accomplishments, and discipline; develop an appropriate educational program, services and placement; provide information for enrollment and student financial aid for post-DoDEA education; obtain and preserve school academic and athletic accreditation; to provide directory information to military recruiters; to make emergency contact as necessary; protect student health and welfare; and to perform other related authorized educational duties as required. Also used as a management tool for statistical analysis, tracking, reporting, evaluating program effectiveness, and conducting research.”

Routine uses of records maintained in the system, including categories of users and the purposes of such uses:

Delete entry and replace with “In addition to those disclosures generally permitted under 5 U.S.C.552a(b) of the Privacy Act of 1974, these records may specifically be disclosed outside the DoD as a routine use pursuant to 5 U.S.C. 552a(b)(3) as follows:

To a non-DoD school, upon request of the school, when the child is enrolled in the school or receiving services from the school at DoD expense, so long as the disclosure is for purposes related to the student's enrollment or receipt of services.

To public or private entities in connection with financial aid the student has received or for which the student has applied, if the information is necessary to determine the student's eligibility for, or the amount of, or the conditions of the aid.

To appropriate parties, including parents of a student age 18 or over, in connection with an emergency if knowledge of the information is necessary to protect the health or safety of the student or other students; and to teachers and school officials in non-DoD schools who have been determined to have a legitimate educational interest in the student, provided that the official making the disclosure maintains a record that documents the articulable and significant threat to the health or safety of a student or other individuals that formed the basis of the disclosure and identifies the parties to whom the information was disclosed.

To accrediting organizations to carry out their accrediting functions.

To State and local social service offices relative to law enforcement inquiries and investigations and child placement/support proceedings.

The DoD `Blanket Routine Uses' set forth at the beginning of the Office of the Secretary of Defense (OSD) compilation of systems of records notices also apply to this system.”

* * * * *

Safeguards:

Delete entry and replace with “Access is provided on a `need-to-know' basis and to authorized, authenticated personnel only. Records are maintained in controlled access rooms or areas. Computer terminal access is controlled by use of Common Access Card (CAC) or terminal identification and the password or similar system. Physical access to terminals is restricted to specifically authorized individuals. Password authorization, assignment, and monitoring are the responsibility of the functional managers.”

Retention and disposal:

Delete entry and replace with “Contemporary School Files:

School Student Record Files

Destroy/delete files, other than secondary transcripts, of all information except report cards or other records of academic promotion or retention data after 1 year. Destroy or delete all non secondary transcript files 3-5 years after graduation, transfer, withdrawal, or death of student.

Attendance and Discipline Files:

Cut off at end of school year. Destroy/delete when one year old.

Health Record Files:

Place in student record file upon transfer, withdrawal or death of student.

School Ancillary Service Files:

Transfer to student record file upon graduation, transfer, withdrawal or death of student.

School Mediation Agreement and Hearing Results Files:

Cut off after final decision. Destroy/delete when 20 years old.

School Special Education Files:

Cut off on graduation, transfer, withdrawal, or death of student. Destroy/delete when 5 years old.

Student Administrative Files:

Cut off at end of school year or upon year student transfers. Destroy after 1 year unless needed for further reference.

Student Record Request and Disclosure Files.

Cut off at end of school year. Destroy/delete when 2 years old.

Historical School Files:

Transcripts. Secondary Schools and Panama college transcripts will be cut off upon transfer, withdrawal, or death of student. Secondary transcript files are destroyed when 50 years old.”

System manager(s) and address:

Delete entry and replace with “Area school district system manager addresses may be obtained from the Office of the Director, Department of Defense Education Activity, 4040 North Fairfax Drive, Arlington, VA 22203-1634.”

Notification procedure:

Delete entry and replace with “Individuals seeking to determine whether this system contains information about themselves should address written inquiries to Area or District Systems Managers or the Privacy Act Officer, Department of Defense Education Activity, 4040 North Fairfax Drive, Arlington, VA 22203-1635.

Written requests must contain the full name and signature of the requester. When the requester is not the student, state the requester's relationship to the student and include a student's written authorization to disclose the information or evidence of the parental/legal relationship that establishes the parent's or legal guardian's right to access that information such as a certified copy of a court order, or sufficient information about the requester (SSN, unique student identifier, date of birth) to permit DoDEA to verify custody through the Defense Enrollment Eligibility Reporting System.

The request must state the name used by the student at the time of school attendance, the student's birth date, name, and location of the school(s) attended, and the approximate dates of attendance.”

Record access procedures:

Delete entry and replace with “Parents/legal guardians and personnel acting as a parent, pursuant to appointment by competent authority in the absence of a parent or legal guardian, are authorized access to the student records of their “dependent” student, as defined in DoD Joint Travel Regulation, Volume 2, Appendix A (JTR V. 2, App. A). Access is afforded to either parent, unless DoDEA is provided with evidence that there is a court order such as, but not limited to, a divorce, separation, adoption or custody decree, that specifically revokes these rights.

While a student is currently enrolled in a DoDEA school, the student or the student's parent/legal guardian, and individuals in overseas areas designated as temporary foster parents, may access their student's records maintained at the student's school by making a request for such access to the student's teachers, registrars and administrators, in accordance with the procedures established at the school, or may request access in writing according to the instructions below.

Individuals may submit written requests for access to student information about themselves, and parents/legal guardians of dependent children may submit written requests about their children to the appropriate Area or District Records Systems Managers, or to the Privacy Act Officer, Department of Defense Education Activity, 4040 North Fairfax Drive, Arlington, VA 22203-1635.

Written requests must contain the full name and signature of the requester. When the requester is not the student, state the requester's relationship to the student and include a student's written authorization to disclose the information or evidence of the parental/legal relationship that establishes the parent's or legal guardian's right to access that information such as, a certified copy of a court order, or sufficient information about the requester (SSN, unique student identifier, date of birth) to permit DoDEA to verify custody through the Defense Enrollment Eligibility Reporting System. The request must also state the name used by the student at the time of school attendance, the student's birth date, the name, and location of the school(s) attended, and the approximate dates of attendance.”

* * * * *

Record source categories:

Delete entry and replace with “Individuals; parents/guardians, DoDEA staff, including school teachers, principals and administrators, counselors, occupational and physical therapists, and other educational service providers; service providers; other educational facilities; medical facilities and personnel; military commands; and members of and activities in the community.”

* * * * *

DoDEA 26

System name:

Department of Defense Education Activity Educational Records.

System location:

Primary location:

Department of Defense Education Activity (DoDEA) Headquarters office, 4040 North Fairfax Drive, Arlington, VA 22203-1634.

Secondary locations:

Director, Department of Defense Dependent Schools Pacific, Unit 35007, APO AP 96376-5007.

Director, Department of Defense Dependent Schools Europe, Unit 29649, Box 7000, APO AE 09002-7000.

Domestic Dependent Elementary and Secondary Schools Service Center, 700 Westpark Drive, 3rd Floor, Peachtree City, GA 30269-3554.

Decentralized records are also held at local DoD schools. A list of complete addresses for a specific area (Pacific, Europe or Domestic) may be obtained by writing to the appropriate office above.

Categories of individuals covered by the system:

Current and former students enrolled in schools operated or funded by DoDEA, world-wide.

Categories of records in the system:

The records described in this notice consist of elementary school and secondary school records that pertain directly to individual students enrolled or formerly enrolled in DoDEA schools; to include the former Panama schools and Panama college; and school-based programs funded by DoDEA. Data elements for all records generally include student name and unique student identifier.

Contemporary School Files:

Attendance and Discipline Files. Information reflecting attendance and disciplinary actions, to include teacher referrals, tardy and/or admission slips, correspondence to and from parents, student and/or witness statements, school disciplinary investigation files, student consequences (punishments), and similar related information.

Health Record Files. Student immunization records, parental permission forms, screening results, sports physicals, physician referrals, medication instructions, consent forms, pertinent family medical history, psychological or mental health and physical assessments and evaluation reports, and/or 504 Accommodation Plans relating to medical or physical disabilities.

School Ancillary Service Files. Non-special education supplemental student services, such as the Gifted Program; English as a Second Language (ESL); Compensatory Education; Reading Improvement; and student counseling and guidance. Records include consultation and referrals, individual student responses to test protocols, assessments and evaluation plans and results, progress and evaluation reports and summaries, teachers' notes, general correspondence, and samples of student's work, and similar related information.

School Mediation Agreement and Hearing Results Files. Material on mediations (limited to records of agreements) and hearings other than those filed in another individual student file such as, a special education file.

School Special Education Files. Student special education programs referrals and referral forms; samples of student's work; Individualized Education Programs and Individualized Family Service Plans; Case Study Committee, test results and protocols; disciplinary records, behavior plans and related information; assessment and evaluation reports; correspondence between teachers, service providers and/or parents; and cross-reference location information; related service-provider reports; teacher notes relevant to the child's special education program or needs; results of special education administration hearings; and similar related information.

School Student Record Files. Information includes student name, Social Security Number (SSN), unique student identifier, enrollment forms and documentation, date of birth, citizenship, photos, passport numbers and expiration dates (for high school students only), student performance, achievements and recognition (academic, citizenship, and athletic), standardized achievement test scores and grades, classroom and course grades, reading records, letters of recommendation, parental correspondence, 504 Accommodation Plans and similar individual student records, and information contained in the student files listed below; records of individual student's sponsor's, including sponsor's SSN, permanent duty address, residence, emergency contact information, parental consents and permissions; and similar related records.

Student Administrative Files. Information pertaining to student involvement in administrative actions, such as, serious incident reports, military reports, investigations, compliance reports and similar documents when retrieved by the students name or personal identifier.

Student Record Request and Disclosure Files. Records reflecting individual written requests for access to school files, parent/student consent authorizing disclosure of school files to other individuals or organizations, and records of disclosure of school files when no parent/student consent is required.

Historical School Files:

Transcript Files. Information consists solely of a student's secondary schools or Panama College permanent records (transcripts) reflecting student name and SSN, unique student ID, grades, course titles, credits, and similar data.

Authority for maintenance of the system:

10 U.S.C. 113, Secretary of Defense; 10 U.S.C. 2164, Department of Defense Domestic Dependent Elementary and Secondary Schools; 20 U.S.C. 921-932, Overseas Defense Dependent's Education; 29 U.S.C. 794, Nondiscrimination under Federal Grants and Programs; DoD Directive 1342.20, Department of Defense Education Activity (DoDEA); DoD Directive 1020.1, Nondiscrimination on the Basis of Handicap in Programs and Activities Conducted by the Department of Defense; and E.O. 9397 (SSN), as amended.

Purpose(s):

To maintain educational records necessary to operate a global educational program for authorized students ages 3-21, inclusive. Records may be used to determine enrollment eligibility and tuition status; schedule children for classes and transportation; record attendance, absence and withdrawal; record and monitor student progress, grades, course and grade credits, services, school activities, student awards, special interests, accomplishments, and discipline; develop an appropriate educational program, services and placement; provide information for enrollment and student financial aid for post-DoDEA education; obtain and preserve school academic and athletic accreditation; to provide directory information to military recruiters; to make emergency contact as necessary; protect student health and welfare; and to perform other related authorized educational duties as required. Also used as a management tool for statistical analysis, tracking, reporting, evaluating program effectiveness, and conducting research.

Routine uses of records maintained in the system, including categories of users and the purposes of such uses:

In addition to those disclosures generally permitted under 5 U.S.C. 552a(b) of the Privacy Act of 1974, these records may specifically be disclosed outside the DoD as a routine use pursuant to 5 U.S.C. 552a(b)(3) as follows:

To a non-DoD school, upon request of the school, when the child is enrolled in the school or receiving services from the school at DoD expense, so long as the disclosure is for purposes related to the student's enrollment or receipt of services.

To public or private entities in connection with financial aid the student has received or for which the student has applied, if the information is necessary to determine the student's eligibility for, or the amount of, or the conditions of the aid.

To appropriate parties, including parents of a student age 18 or over, in connection with an emergency if knowledge of the information is necessary to protect the health or safety of the student or other students; and to teachers and school officials in non-DoD schools who have been determined to have a legitimate educational interest in the student, provided that the official making the disclosure maintains a record that documents the articulable and significant threat to the health or safety of a student or other individuals that formed the basis of the disclosure and identifies the parties to whom the information was disclosed.

To accrediting organizations to carry out their accrediting functions.

To State and local social service offices relative to law enforcement inquiries and investigations and child placement/support proceedings.

The DoD 'Blanket Routine Uses' set forth at the beginning of the Office of the Secretary of Defense (OSD) compilation of systems of records notices also apply to this system.

Policies and practices for storing, retrieving, accessing, retaining, and disposing of records in the system:

Storage:

Paper file folders and electronic storage media.

Retrievability:

By student surname, SSN, date of birth, and student number.

Safeguards:

Access is provided on a `need-to-know' basis and to authorized, authenticated personnel only. Records are maintained in controlled access rooms or areas. Computer terminal access is controlled by use of Common Access Card (CAC) or terminal identification and the password or similar system. Physical access to terminals is restricted to specifically authorized individuals. Password authorization, assignment, and monitoring are the responsibility of the functional managers.

Retention and disposal:

Contemporary School Files:

School Student Record Files:

Destroy/delete files, other than secondary transcripts, of all information except report cards or other records of academic promotion or retention data after 1 year. Destroy or delete all non secondary transcript files 3-5 years after graduation, transfer, withdrawal, or death of student.

Attendance and Discipline Files:

Cut off at end of school year. Destroy/delete when one year old.

Health Record Files:

Place in student record file upon transfer, withdrawal or death of student.

School Ancillary Service Files:

Transfer to student record file upon graduation, transfer, withdrawal or death of student.

School Mediation Agreement and Hearing Results Files:

Cut off after final decision. Destroy/delete when 20 years old.

School Special Education Files:

Cut off on graduation, transfer, withdrawal, or death of student. Destroy/delete when 5 years old.

Student Administrative Files:

Cut off at end of school year or upon year student transfers. Destroy after 1 year unless needed for further reference.

Student Record Request and Disclosure Files:

Cut off at end of school year. Destroy/delete when 2 years old.

Historical School Files:

Transcripts. Secondary Schools and Panama college transcripts will be cut off upon transfer, withdrawal, or death of student. Secondary transcript files are destroyed when 50 years old.

System manager(s) and address:

Area school district system manager addresses may be obtained from the Office of the Director, Department of Defense Education Activity, 4040 North Fairfax Drive, Arlington, VA 22203-1634.

Notification procedure:

Individuals seeking to determine whether this system contains information about themselves should address written inquiries to Area or District Systems Managers or the Privacy Act Officer, Department of Defense Education Activity, 4040 North Fairfax Drive, Arlington, VA 22203-1635.

Written requests must contain the full name and signature of the requester. When the requester is not the student, state the requester's relationship to the student and include a student's written authorization to disclose the information or evidence of the parental/legal relationship that establishes the parent's or legal guardian's right to access that information such as, a certified copy of a court order, or sufficient information about the requester (SSN, unique student identifier, date of birth) to permit DoDEA to verify custody through the Defense Enrollment Eligibility Reporting System.

The request must state the name used by the student at the time of school attendance, the student's birth date, name, and location of the school(s) attended, and the approximate dates of attendance.

Record access procedures:

Parents/legal guardians and personnel acting as a parent, pursuant to appointment by competent authority in the absence of a parent or legal guardian, are authorized access to the student records of their “dependent” student, as defined in DoD Joint Travel Regulation, Volume 2, Appendix A (JTR V. 2, App. A). Access is afforded to either parent, unless DoDEA is provided with evidence that there is a court order, such as, but not limited to, a divorce, separation, adoption or custody decree, that specifically revokes these rights.

While a student is currently enrolled in a DoDEA school, the student or the student's parent/legal guardian, and individuals in overseas areas designated as temporary foster parents, may access their student's records maintained at the student's school by making a request for such access to the student's teachers, registrars and administrators, in accordance with the procedures established at the school, or may request access in writing according to the instructions below.

Individuals may submit written requests for access to student information about themselves, and parents/legal guardians of dependent children may submit written requests about their children to the appropriate Area or District Records Systems Managers, or to the Privacy Act Officer, Department of Defense Education Activity, 4040 North Fairfax Drive, Arlington, VA 22203-1635.

Written requests must contain the full name and signature of the requester. When the requester is not the student, state the requester's relationship to the student and include a student's written authorization to disclose the information or evidence of the parental/legal relationship that establishes the parent's or legal guardian's right to access that information such as, a certified copy of a court order, or sufficient information about the requester (SSN, unique student identifier, date of birth) to permit DoDEA to verify custody through the Defense Enrollment Eligibility Reporting System. The request must also state the name used by the student at the time of school attendance, the student's birth date, the name, and location of the school(s) attended, and the approximate dates of attendance.

Contesting records procedures:

The OSD rules for accessing records, for contesting contents and appealing initial agency determinations are contained in OSD Administrative Instruction 81; 32 CFR part 311; or may be obtained from the system manager.

Record source categories:

Individuals; parents/guardians, DoDEA staff, including school teachers, principals and administrators, counselors, occupational and physical therapists, and other educational service providers; service providers; other educational facilities; medical facilities and personnel; military commands; and members of and activities in the community.

Exemptions claimed for the system:

None.

[FR Doc. 2011-10369 Filed 4-28-11; 8:45 am]

BILLING CODE 5001-06-P